DEPARTMENT OF HEALTH AND HUMAN SERVICES

National Institutes of Health

Center for Scientific Review; Amended Notice of Meeting

Notice is hereby given of a change in the meeting of the Center for Scientific Review Special Emphasis Panel, April 20, 2009, 9 a.m. to April 21, 2009, 3 p.m., National Institutes of Health, 6701 Rockledge Drive, Bethesda, MD 20892 which was published in the Federal Register on March 31, 2009, 74 FR 14570-14571.

The meeting will be held April 16, 2009, 4 p.m. to April 17, 2009, 6 p.m. The meeting location remains the same. The meeting is closed to the public.

Dated: April 2, 2009.
Jennifer Spaeth,
Director, Office of Federal Advisory Committee Policy.

[FR Doc. E9-8019 Filed 4-9-09; 8:45 am]

BILLING CODE 4140-01-M